DEPARTMENT OF HOMELAND SECURITY

Federal Emergency Management Agency

Assistance to Firefighters Fire Prevention and Safety Program

AGENCY: U.S. Fire Administration (USFA), Federal Emergency Management Agency (FEMA), Emergency Preparedness and Response Directorate, Department of Homeland Security (DHS).

ACTION: Notice of availability of funds.

SUMMARY: FEMA gives notice of the availability of funds for Fiscal Year 2003 under the Assistance to Firefighters Fire Prevention and Safety Program (the Program) as authorized by the Federal Fire Prevention and Control Act of 1974. The Program will make up to $27,500,000 of the total appropriated amount of $745,125,000 available for fire prevention activities.

FEMA will fund fire prevention activities based on proposals that address the Program's priorities and maximize the benefits to be derived from the funds. FEMA is statutorily mandated to provide these funds to national, State and/or community organizations (including fire departments) that are recognized for their experience and expertise with respect to fire prevention or fire safety programs and activities. In selecting recipients, FEMA will give priority where practical to organizations that focus on prevention of fire or fire-related injuries to children.

Authority: 15 U.S.C. 2229; 44 CFR Part 152, 68 FR 12544 (Final Rule published March 14, 2003.)

DATES: Completed applications must be received online or postmarked by 5 p.m. EST November 14, 2003.

FOR FURTHER INFORMATION CONTACT: Brian Cowan, Chief, Grants Program Branch, USFA, FEMA, 500 C Street, SW., Room 330, Washington, DC 20472, 1-866-274-0960, or usfagrants@fema.gov.

SUPPLEMENTARY INFORMATION:

A. Purpose

The purpose of this notice is to advise of the availability of funds for carrying out fire prevention activities pursuant to the Federal Fire Prevention and Control Act of 1974, 15 U.S.C. 2229. Up to $27,500,000 will be available for this purpose. Under 15 U.S.C. 1229(b)(4), FEMA must use not less than 5 percent of funding to (1) make grants to fire departments to fund fire prevention programs and (2) make grants to or enter contracts or cooperative agreements with national, State, local, and community organizations for the purpose of carrying out fire prevention programming. This notice only addresses the latter use of funding; the former comprises the balance of the 5 percent and is being awarded through the Assistance to Firefighters competitive grant to fire departments, as explained in FEMA's March 14, 2003 notice of funds availability (68 FR 12553).

B. Eligibility

National, State, local and community organizations (which may include fire departments as defined at 44 CFR 152.2) that are recognized for their experience and expertise with respect to fire prevention or fire safety programs and activities are eligible to apply. For the purposes of these Fire Prevention and Safety awards, we are acknowledging that fire departments are generally recognized as local organizations with experience and expertise in carrying out fire prevention activities and are therefore eligible to apply.

C. Program Requirements

1. Recipients must agree that in the fiscal year for which assistance will be received, aggregate expenditures for fire prevention activities, exclusive of the amount of assistance received through this program, will be maintained at or above the average level of such expenditures in the two fiscal years preceding the fiscal year for which the assistance is received.

2. Recipients must agree to a matching cost share of non-Federal funds. Generally, recipients must agree to match with an amount of non-Federal funds equal to 30 percent of the total project cost. However, the match for recipients that may be characterized as community organizations whose mission serves populations of 50,000 or less shall be 10 percent of the total project cost. FEMA, in its discretion, will make this determination based upon the organization's primary target population as reflected in its bylaws and mission statement. For fire departments, FEMA will look at the population of the department's primary response area. The non-Federal match must be cash; “in-kind” contributions are not permitted.

3. Fire departments receiving assistance through the Program must provide information to the National Fire Incident Reporting System (NFIRS) for one year.

4. Grantees must submit semi-annual and final reports describing (i) how the assistance was used and (ii) the benefits derived from the funded activities.

5. Projects funded under this grant will generally have a one-year period of performance.

D. Application Process

FEMA encourages all applicants to apply online using FEMA's electronic (e-grant) application process, although paper applications will also be accepted. The e-grant application incorporates data from all of FEMA's grant forms. The application will include questions requesting general information about the applicant as well as activity-specific questions for each activity that the applicant plans to implement with grant funds. Applicants will be asked to provide details concerning the various budget items necessary to accomplish their proposed projects. The application will include a program narrative in which the applicant must provide a detailed description of each planned project, experience in conducting prevention activities, and the benefits to be derived from the costs of the project. The narrative should not exceed 10 pages (double-spaced with one-inch margins and 12-point font). The narrative should also address the eligible activities, program priorities, identified risk analysis, program goals, and evaluation methodology. Completed narratives should address each of the following items:

1. General information such as the history and description of the applicant organization, the organization's capability to achieve proposed objectives and past successes achieving project goals, the organization's experience with fire and injury prevention issues, and the qualifications of the project manager and the primary team members.

2. A project overview which includes at least: a problem statement describing the issues to be addressed, project goals, and objectives, as well as the necessary tasks to achieve those goals and objectives; a description of what will be accomplished during the grant performance period; an explanation of how the project will address the stated problem; and a project description addressing the following questions as applicable:

a. Will this establish a new project, expand an existing project into new areas, or augment an existing fire prevention project?

b. What is the target audience? A USFA-identified target population(s) (children under the age of 14, seniors over the age of 65, and firefighters) or another high-risk population? Why are they the target audience?

c. Will this project establish a multi-organization partnership with other groups in the community? If so, describe how.

3. A list of project benchmarks, phases, or milestones.

4. A description of the method or procedure for project implementation.

5. A detailed explanation of the project budget (i.e., all budget line items such as contracting personnel or equipment, etc.), including a cost-benefit assessment comparing the benefits to be realized with the costs of achieving those benefits.

6. An explanation of the means with which the project will be sustained, if it will continue beyond the grant period (typically one year).

7. A description of the methodology that will be used to assess, evaluate and identify results of the project.

Effective October 1, 2003, all grant applicants must obtain a DUNS number, (a unique nine-character identification number provided by the commercial company Dun & Bradstreet). There is no charge to obtain a DUNS number, and it is the applicant's responsibility to obtain one. Applicants are encouraged to apply for a DUNS number well in advance of the application period because it may take 14 business days to obtain the number online. Applicants can also call 1-800-333-0505 to apply. Applications that do not include a DUNS number are incomplete and cannot be considered for award. If applying using the online system, this field will be a mandatory entry and your application cannot be completed without it. If applying on paper, use the box entitled “Federal Identifier” on the SF 424, Application for Federal Assistance, to enter the DUNS number.

Completed applications must be received online or postmarked by 5 p.m. EST November 14, 2003. Paper applications are required to include a narrative addressing items D.1—8 above, and all of the following FEMA forms: 20-16 Assurances and Certifications, 20-20 Budget Information-Nonconstruction Programs, and SF 424 Request for Federal Assistance. These forms are available online at www.fema.gov/ofm/grants2.shtm or can be requested by calling 1-866-274-0960. Failure to submit all of the required forms will result in a disqualification of the paper application. The paper application should be mailed to AFG Program Office, 500 C Street, SW., Room 330, Washington, DC 20472. If an online application is submitted, applicants should not submit a supplemental paper application.

E. Eligible Activities

Fire prevention and safety projects are the only eligible activities under the Program. Installation of sprinkler systems and fire alarm systems into existing structures shall be eligible for funding. Renovations to an existing facility are allowable only if the costs are not construction costs as defined in 44 CFR 152.2. This section was amended by the publication of a final rule on March 14, 2003 at 68 FR 12544. In order to be eligible, renovations must be essential to the successful completion of the grant scope of work. Construction projects are not eligible under the program. Changes or renovations to an existing structure that do not change the footprint or profile of the structure but exceed either $10,000 or 50 percent of the value of the structure, are also considered construction for the purposes of this grant program.

The following list includes examples of eligible initiatives under this program:

1. Projects that focus on distributing and installing smoke alarms and checking to ensure smoke alarms are operational.

2. Projects that focus on planning and practicing escape routes, or conducting home fire safety walkthroughs;

3. Fire prevention projects targeting high-risk audiences, including those:

a. Enhancing national, State, or local efforts to reduce fires and burn injuries affecting children under 14 or seniors over 65;

b. Targeting geographical areas with a higher incidence of fire-related deaths and injuries;

c. Implementing projects that mitigate risk in urban cities or high-risk groups to include addressing culturally-sensitive materials or socio-economic challenges;

4. Projects that affect the entire community such as educating the public about residential sprinklers, promoting residential sprinklers, and demonstrating working models of residential sprinklers;

5. Projects that promote the adoption or awareness of building codes and enforcement, improve engineering or enact fire-related ordinances for new construction;

6. Projects that develop and implement national prevention initiatives;

7. Local or regional projects that address training personnel in the area of public education, code enforcement, and arson prevention.

Projects that address additional fire prevention and safety initiatives will be considered.

F. Evaluation Criteria

FEMA will give priority to projects that focus on the prevention of injury to children from fire. Additionally, successful projects will have a high potential for achieving the overall goals of USFA, listed below. It is unlikely that projects that do not address these goals will be funded.

USFA Goals:

• To reduce the overall loss of life from fire by three percent per year.

• To establish comprehensive multi-hazard risk reduction plans led by or including the local fire service in 2,500 communities.

• To create the ability for communities to respond appropriately to emergent issues in a timely manner.

FEMA will use the below criteria in making funding decisions. Applications that closely meet all of the listed evaluation criteria will be more likely to receive favorable consideration. Federal and non-Federal experts will assist with the preliminary review of proposals and analysis as part of the funding decisions. Regardless of the proposed project, all applications will be evaluated on the degree to which they meet the criteria below. This list is not in order of priority.

• Use of an innovative project to address an identified risk or enhance traditional methodologies;

• Incorporation of partnerships that are established with public or private groups/agencies whose mission serves the population identified by the project;

• Targeting of geographical areas with a higher incidence of fire-related deaths and injuries;

• Presentation of a high benefit for the cost incurred and maximizing the level of funding that goes directly into the delivery of the project; i.e., projects that include little or no overhead and administrative costs;

• Inclusion of sound reasoning regarding the determination of the target audience, measurable goals and project evaluation;

• Proposing a project that will be sustained beyond the grant performance period and has a greater potential for long-term benefits; and

• Illustration that the applicant has a successful record for timely project completion and performance in similar projects.

G. Funding Limitations

Grant recipients or parties entering into cooperative agreements through the program may receive no more that $750,000 in any Federal fiscal year. Fire Departments that receive funding under the Assistance to Firefighters—competitive grant must consider this limitation, because the combined total for the grants is capped at $750,000.

H. Contracts

FEMA may, in its discretion, enter into contracts for fire prevention activities in order to achieve overall program goals. These contracts may not be subject to the limitations and requirements set forth in this notice.

Dated: October 14, 2003.
R. David Paulison,
Director of the Preparedness Division, Emergency Preparedness and Response, Department of Homeland Security.

[FR Doc. 03-26408 Filed 10-17-03; 8:45 am]

BILLING CODE 6718-08-P